DEPARTMENT OF THE TREASURY

United States Mint

Pricing for the 2018 Breast Cancer Awareness Commemorative Coin Program

AGENCY: United States Mint, Department of the Treasury.

ACTION: Notice.

SUMMARY: The United States Mint is announcing pricing for the 2018 Breast Cancer Awareness Commemorative Coin Program as follows:

Coin | Introductory price | Regular price
Silver Proof | $51.95 | $56.95
Silver Uncirculated | 48.95 | 53.95
Clad Proof | 27.95 | 32.95
Clad Uncirculated | 25.95 | 30.95

Products containing gold coins will be priced according to the Pricing of Numismatic and Commemorative Gold and Platinum Products Grid posted at www.usmint.gov.

FOR FURTHER INFORMATION CONTACT: Rosa Matos, Program Manager for Numismatic and Bullion; United States Mint; 801 9th Street NW, Washington, DC 20220; or call 202-354-7500.

Authority: Public Law 114-148.

Dated: January 24, 2018.
David Motl,
Acting Deputy Director, United States Mint.

[FR Doc. 2018-01665 Filed 1-29-18; 8:45 am]

BILLING CODE P